EXPORT-IMPORT BANK

Information Request on Financing Support for Critical Minerals Projects

AGENCY: Export-Import Bank of the United States.

ACTION: Notice.

SUMMARY: To assist the Export-Import Bank of the United States (EXIM) in supporting critical minerals transactions, which are crucial to the supply chains of several of the Congressionally mandated Transformational Export Areas in EXIM's Charter, EXIM seeks information on the financing gaps faced by project sponsors, users of critical minerals, and suppliers to critical minerals projects.

DATES: Comments are due on May 6, 2024.

ADDRESSES: Interested parties may submit comments on this transaction electronically on www.regulations.gov. To submit a comment, enter “Information Request on Financing Support for Critical Minerals” under the heading “Enter Keyword or ID” and select Search. Follow the instructions provided at the Submit a Comment screen. Please include your name, company name (if any) and “Information Request on Financing Support for Critical Minerals Projects” on any attached document. Comments can also be sent by email or mail to Scott Condren, Scott.Condren@exim.gov, Export-Import Bank of the United States, 811 Vermont Ave. NW, Washington, DC 20571.

FOR FURTHER INFORMATION CONTACT: To request additional information, please contact Scott Condren, Scott.Condren@exim.gov, 202-509-4227.

SUPPLEMENTARY INFORMATION: In EXIM's 2019 reauthorization, Congress directed the agency to create the China and Transformational Exports Program (CTEP) and use its tools and authorities to advance the comparative leadership of the United States with respect to the People's Republic of China (PRC), or support United States innovation, employment, and technological standards through direct exports in 10 transformational export areas. These export areas include:

• Artificial intelligence.

• Biotechnology.

• Biomedical sciences.

• Wireless communications equipment (including 5G or subsequent wireless technologies).

• Quantum computing.

• Renewable energy, energy efficiency, and energy storage.

• Semiconductor and semiconductor machinery manufacturing.

• Emerging financial technologies (including technologies that facilitate financial inclusion through increased access to capital and financial services; data security and privacy; payments, the transfer of funds, and associated messaging services; and efforts to combat money laundering and the financing of terrorism).

• Water treatment and sanitation (including technologies and infrastructure to reduce contaminants and improve water quality).

• High-performance computing;

• Associated services necessary for use of any of the foregoing exports.

Additionally, EXIM reviews over the last few years indicate that critical minerals are a crucial component of multiple transformational export areas—and the U.S. lags the PRC in the proven reserves, mining, and processing of almost all critical minerals. Thus, EXIM has prioritized critical minerals that are part of the supply chain for transformational export areas and clearly align to the capacity to produce and foreign demand for U.S. goods and services in transformational export area industries.

Therefore, to understand how EXIM financing can better support U.S. exporters in this sector, diversify supply chains, and ensure access to critical minerals by U.S. users, EXIM is seeking public comment on the financing gaps stakeholders face. EXIM has identified specific questions for specific stakeholders but welcomes feedback from all relevant stakeholders not specifically identified here.

(A) For U.S. exporters to critical minerals projects:

(1) What part of the supply chain do you supply (e.g., mining, refining, or processing)?

(2) What goods and services do you provide to such projects (e.g., services, capital equipment, intermediate components, consumables)?

(3) What are the financing challenges, if any, that prevent securing sales with foreign buyers?

(4) Are you aware of or facing competition backed by foreign government financing?

(5) If so, please identify the competition and the type of foreign government financing provided.

(6) Have you previously used financing tools from the Export-Import Bank of the United States?

(7) If you have not utilized EXIM financing, please explain why not (e.g., no need, fees too high, could not meet policy criteria such as content).

(B) For U.S.-based users of critical minerals:

(1) Which critical minerals are most important to your operations?

(2) In what geographies are you most likely to seek access to those minerals?

(3) Is there now or expected to be in the future competitive U.S.-based sources of those minerals?

(4) What financial hurdles are there to obtaining critical minerals? Please distinguish between short-term hurdles (such as insufficient access to working capital to import specific cargos) and longer-term (such as requirements of foreign projects for large down payments in exchange for long-term supply contracts).

(5) What impact does lack of access to critical minerals have on your operations, particularly regarding employment and exports?

(6) To what extent are you aware of foreign competitors gaining access to critical minerals resources via foreign government support (such as lending to a foreign mine conditional on selling output to a particular company)?

(7) What form does such support take?

EXIM encourages respondents, when addressing the points above, unless raising other challenges to financing critical minerals transactions, to identify which point they are responding to by using the same numbers and heading as set forth above. For example, a user of critical minerals submitting comments responsive to (4), “What financial hurdles are there to obtaining critical minerals”, would use that same text as a heading followed by the respondent's specific comments responding to it. This formatting will assist EXIM in more easily reviewing and summarizing the comments received in response to these specific points of inquiry.

Scott Condren,
Vice President, Policy Analysis Division, Office of Policy Analysis and International Relations.

[FR Doc. 2024-04883 Filed 3-6-24; 8:45 am]

BILLING CODE 6690-01-P